DEPARTMENT OF COMMERCE

Foreign-Trade Zones Board

[Docket 27-98 and 28-98]

Withdrawal of Applications for Subzone Status for Hanover Direct, Inc. (Distribution of Consumer Goods); Foreign-Trade Zone 147—Reading, PA (Hanover, PA); Foreign-Trade Zone 204—Blountville, TN (Roanoke, VA)

Notice is hereby given of the withdrawal of the applications submitted by the Foreign-Trade Zone Corporation of Southeastern Pennsylvania, grantee of FTZ 147, Reading, PA, and Tri-Cities Airport Commission, grantee of FTZ 204, Blountville, TN, requesting special-purpose subzone status for the consumer goods distribution facilities of Hanover Direct, Inc., located in Hanover, PA (Docket 27-98) and Roanoke, VA (Docket 28-98). The applications were filed on June 1, 1998 (63 FR 29699, 6/1/98).

The withdrawals were requested because of changed circumstances, and the cases have been closed without prejudice.

Dated: March 17, 2000.
Dennis Puccinelli,
Acting Executive Secretary.

[FR Doc. 00-7764 Filed 3-28-00; 8:45 am]

BILLING CODE 3510-DS-P